ENVIRONMENTAL PROTECTION AGENCY

[Petition IV-2021-7; FRL-9979-01-R4]

Clean Air Act Operating Permit Program; Petition for Objection to State Operating Permit for U.S. Steel Seamless Tubular Operations—Fairfield Works Pipe Mill (Jefferson County, Alabama)

AGENCY: Environmental Protection Agency (EPA).

ACTION: Notice of final order on petition to object to title V operating permit.

SUMMARY: The EPA Administrator signed an Order, dated June 16, 2022, denying the petition submitted by Greater-Birmingham Alliance to Stop Pollution (Petitioner) objecting to a proposed modification to a Clean Air Act (CAA) title V operating permit issued to U.S. Steel Seamless Tubular Operations for its Fairfield Works Pipe Mill (Permittee) located in Jefferson County, Alabama. The Order responds to a June 7, 2021, petition requesting that EPA object to the final operating permit no. 4-07-0371-09. This permitting action was a significant modification issued by the Jefferson County Department of Health (JCDH). The Order constitutes a final action on the petition addressed therein.

ADDRESSES: Copies of the Order, the petition, and all pertinent information relating thereto are on file at the following location: EPA Region 4; Air and Radiation Division; 61 Forsyth Street, SW; Atlanta, Georgia 30303-8960. The Order is also available electronically at the following address: https://www.epa.gov/system/files/documents/2022-06/US%20Steel%20Order_6-16-22.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if EPA has not objected on its own initiative. Petitions must be based only on objections to the permit that were raised with reasonable specificity during the public comment period provided by the permitting authority, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted a petition requesting that EPA object to the CAA title V operating permit no. 4-07-0371-09 issued by JCDH to the Fairfield Works Pipe Mill. Petitioner claims: the public did not have a meaningful opportunity to comment on the applicability of major and minor new source review (NSR); the Permittee violated the state implementation plan by failing to commence construction of the electric arc furnace (EAF) within 24 months of JCDH's approval and, thus, required a new construction permit; JCDH failed to issue an NSR permit for the EAF both initially and after the failure to timely commence construction; and the permit failed to assure compliance with a valid NSR permit that should have been issued by JCDH.

On June 16, 2022, the Administrator issued an Order denying the petition. The Order explains EPA's bases for denying the petition.

Dated: July 5, 2022.
Daniel Blackman,
Regional Administrator, Region 4.

[FR Doc. 2022-14902 Filed 7-12-22; 8:45 am]

BILLING CODE 6560-50-P